DEPARTMENT OF TRANSPORTATION

Research and Special Programs Administration

[Docket No. RSPA-04-16964 (Notice No. 04-3)]

Hazardous Materials: Regulations for the Safe Transport of Radioactive Material (TS-R-1); Solicitation of Proposed Changes

AGENCY: Research and Special Programs Administration (RSPA), DOT.

ACTION: Solicitation of proposals for changes to the International Atomic Energy Agency Regulations.

SUMMARY: RSPA and the U.S. Nuclear Regulatory Commission (NRC) are jointly seeking proposed changes to the International Atomic Energy Agency (IAEA) Regulations for the Safe Transport of Radioactive Material (referred to as TS-R-1). The proposed changes that are submitted by the U.S. and other IAEA member states and International Organizations might necessitate subsequent domestic compatibility rulemakings by both DOT and NRC.

DATES: Proposals will be accepted June 7, 2004. Proposals received after this date will be considered if it is practical to do so, however we are only able to assure consideration only for proposals received on or before this date.

ADDRESSES: You may submit proposed changes identified by the docket number (RSPA-04-16964 (Notice No. 04-3)) by any of the following methods:

• Web site: http://dms.dot.gov. Follow the instructions for submitting comments on the DOT electronic docket site.

• Fax: 1-202-493-2251.

• Mail: Docket Management System; U.S. Department of Transportation, 400 Seventh Street, SW., Nassif Building, Room PL-402, Washington, DC 20590-001.

• Hand Delivery: To the Docket Management System; Room PL-402 on the plaza level of the Nassif Building, 400 Seventh Street, SW., Washington, DC between 9 a.m. and 5 p.m., Monday through Friday, except Federal Holidays.

• Federal eRulemaking Portal: Go to http://www.regulations.gov. Follow the online instructions for submitting comments.

Instructions: All submissions must include the agency name and docket number or Regulatory Identification Number (RIN) for this notice. For detailed instructions on submitting proposals and additional information on the rulemaking process, see the Public Participation heading of the Supplementary Information section of this document. Note that all proposals received will be posted without change to http://dms.dot.gov including any personal information provided. Please see the Privacy Act heading under Supplementary Information.

Docket: For access to the docket to read background documents or proposals received, go to http://dms.dot.gov at any time or to the Docket Management System (see ADDRESSES).

FOR FURTHER INFORMATION CONTACT: Mr. Rick Boyle, Office of Hazardous Material Technology, U.S. Department of Transportation, Nassif Building, 400 Seventh Street, SW., Washington DC, 20590-0001; (202) 366-2993; rick.boyle@rspa.dot.gov.

SUPPLEMENTARY INFORMATION:

I. Background

The IAEA periodically revises its Regulations for the Safe Transport of Radioactive Material to reflect new information and accumulated experience. The DOT is the U.S. competent authority before the IAEA for radioactive material transportation matters. The NRC provides technical support to the DOT in this regard, particularly with regard to Type B and fissile packages.

The IAEA recently initiated the review cycle for the 2007 edition of its regulations. The IAEA's review process calls for Member States and International Organizations to provide proposed changes to the IAEA by July 15, 2004. The objective is publication of revised regulations in 2007, nominally to become effective worldwide in 2009. To assure opportunity for public involvement in the international regulatory development process, the DOT and the NRC are soliciting proposals for changes to the IAEA Regulations at this time. This information will assist the DOT and the NRC in having a full range of views as the agencies develop the proposed changes the U.S. will submit to the IAEA.

II. Public Participation

Proposed changes should identify the docket number (RSPA-04-16964 (Notice No. 04-3)) and if by mail proposed changes are to be submitted in two copies. Persons wishing to receive confirmation of receipt of their proposals should include a self-addressed stamped postcard. Internet users may access all proposals received by the U.S. Department of Transportation at http://dms.dot.gov.

Proposed changes must be submitted in writing (electronic file on disk in Microsoft Word format preferred) and are to include:

Name;

Address;

Telephone no.;

E-mail address;

Objective of change/regulatory problem (e.g., a description of the problem being addressed and its consequences);

Justification for change (e.g., the proposed change maintains safety in transport, is risk-informed, and is effective and efficient (e.g., does not impose an undue burden on shippers or carriers));

Paragraphs of the current regulations (TS-R-1) affected (existing text, and proposed new text); and

Modification of or additional guidance material (existing text, and proposed new text); and reference(s) and/or reference material as needed.

The DOT and the NRC will review the proposed changes and rationales. Based in part on the information received, the U.S. will propose changes to be submitted to the IAEA by July 15, 2004.

Proposals for changes from all Member States and International Organizations will be considered at an IAEA Review Panel Meeting to be convened by IAEA on September 27-October 1, 2004, in Vienna, Austria. Prior to that meeting, the DOT and the NRC anticipate holding a public meeting to solicit comment on all (including U.S.) proposed changes submitted to the IAEA.

III. Privacy Act

Anyone is able to search the electronic form of all proposed changes received into any of our dockets by the name of the individual submitting the proposed change (or signing the proposed change, if submitted on behalf of an association, business, labor union, etc.). You may review DOT's complete Privacy Act Statement in the Federal Register published on April 11, 2000 (Volume 65, Number 70; Pages 19477-78) or may visit http://dms.dot.gov.

Issued in Washington, DC on May 4, 2004.
Robert A. McGuire,
Associate Administrator for Hazardous Materials Safety.

[FR Doc. 04-10473 Filed 5-6-04; 8:45 am]

BILLING CODE 4910-60-P